DEPARTMENT OF THE INTERIOR

Bureau of Land Management

[OR-958-6333-ET; HAG-01-0178; WAOR-56583]

Proposed Withdrawal and Opportunity for Public Meeting; Oregon

AGENCY: Bureau of Land Management (BLM), Interior.

ACTION: Notice.

SUMMARY: The Corps Of Engineers (COE), Department of the Army, proposes to withdraw 400.27 acres of Public Lands, to protect the investment of federal funds and the existing hydroelectric generating units constructed at the Chief Joseph Dam. This notice closes the lands for up to 2 years from settlement, sale, location and entry under the general land laws, including the mining laws. The public lands have been and will remain open to mineral leasing.

EFFECTIVE DATE: Comments and requests for a public meeting must be received by August 21, 2001.

ADDRESSES: Comments and meetings requests should be sent to the Oregon/Washington State Director, BLM, PO Box 2965, Portland, Oregon 97208-2965.

FOR FURTHER INFORMATION CONTACT: Cindy Luciano, COE Seattle District, 206-764-3747, or, Charles R. Roy, BLM Oregon/Washington State Office, 503-952-6189.

SUPPLEMENTARY INFORMATION: On March 29, 2001, the COE filed an application to withdraw the following described public lands from settlement, sale, location and entry under the general land laws, including the mining laws (30 U.S.C. Ch. 2 (1994)), but not the mineral leasing laws, subject to valid existing rights:

Willamette Meridian

T. 29 N., R. 26 E.,

Sec. 9, SW¼SW¼;

Sec. 30, Lot 2.

T. 30 N., R. 26 E.,

Sec. 25, NW¼NE¼;

Sec. 35, SW¼SE¼;

T. 30 N., R. 27 E.,

Sec. 28, SE¼SE¼;

Sec. 29, NE¼NW¼;

Sec. 34, SW¼NW¼, NE¼SW¼.

T. 30 N., R. 28 E.,

Sec. 9, SE¼SE¼;

Sec. 14, NE¼SW¼;

The areas described aggregates 400.27 acres in Douglas County.

The purpose of the proposed withdrawal is to protect the investment of federal funds and the existing hydroelectric generating units constructed at the Chief Joseph Dam.

The lands in Sec. 25, T. 30 N., R. 26 E.; Sec. 29, T. 30 N., R. 27 E.; and Sec. 9, T. 30 N., R. 28 E., are overlapped by Power Site Reserve 129, withdrawn by an Executive Order dated July 2, 1910.

For a period of 90 days from the date of publication of this notice, all persons who wish to submit comments, suggestions, or objections in connection with the proposed withdrawal may present their views in writing to the State Director at the address indicated above.

Notice is hereby given that an opportunity for a public meeting is afforded in connection with the proposed withdrawal. All interested parties who desire a public meeting for the purpose of being heard on the proposed withdrawal must submit a written request to the State Director at the address indicated above within 90 days from the publication of this notice. Upon determination by the authorized officer that a public meeting will be held, a notice of the time and place will be published in the Federal Register at least 30 days before the scheduled date of the meeting.

The application will be processed in accordance with the regulations set forth in 43 CFR part 2300.

For a period of 2 years from the date of publication of this notice in the Federal Register, the lands will be segregated as specified above unless the application is denied or canceled or the withdrawal is approved prior to that date. The temporary land uses which may be permitted during this segregative period include licenses, permits, rights-of-way, and disposal of vegetative resources other than under the mining laws.

Dated: May 15, 2001.
Robert D. DeViney, Jr.,
Chief, Branch of Realty and Records Services.

[FR Doc. 01-12768 Filed 5-21-01; 8:45 am]

BILLING CODE 4310-33-P